DEPARTMENT OF JUSTICE

Antitrust Division

Notice Pursuant to the National Cooperative Research and Production Act of 1993—Z-Wave Alliance, Inc.

Notice is hereby given that, on May 12, 2023, pursuant to Section 6(a) of the National Cooperative Research and Production Act of 1993, 15 U.S.C. 4301 et seq. (the “Act”), Z-Wave Alliance, Inc. (the “Joint Venture”) filed written notifications simultaneously with the Attorney General and the Federal Trade Commission disclosing changes in its membership. The notifications were filed for the purpose of extending the Act's provisions limiting the recovery of antitrust plaintiffs to actual damages under specified circumstances.

Specifically, Motorola Solutions Inc., Chicago, IL; ZoneSystems.est, Khobar City, SAUDI ARABIA; ALLTERCO ROBOTICS EOOD, Sofia, BULGARIA; Shenzhen Shyugj Technology Co., Ltd., Guangdong, PEOPLE'S REPUBLIC OF CHINA; and HAB Home Intelligence, LLC, North Richland Hills, TX have joined as parties to the venture.

Also, Confio Technologies Private Limited, Bangalore, INDIA; Trim Energy Ltd., Espoo, FINLAND; Ningbo Dooya Mechanic & Electronic Technology Co., Ltd., Ningbo, PEOPLE'S REPUBLIC OF CHINA; LivingLab Development Co., Ltd., New Taipei City, TAIWAN; AMPER, Madrid, SPAIN; Rehau AG + Co, Rehau, GERMANY; Black Nova Italia srl, Central, HONG KONG; Toledo & Co., Dorado, PUERTO RICO; ottosystem GmbH, Darmstadt, GERMANY; Boundary Technologies Ltd., Edinburgh, UNITED KINGDOM; Somfy Systems, Inc., Dayton, NJ; Alarm Grid, Inc., Lighthouse Point, FL; IOTAS Inc., Portland, OR; and Telldus Technologies, Varberg, SWEDEN have withdrawn as parties to the venture.

In addition, an existing member, Nortek Security & Control, has changed its name to Nice North America LLC, Carlsbad, CA.

No other changes have been made in either the membership or the planned activity of the venture. Membership in this venture remains open, and the Joint Venture intends to file additional written notifications disclosing all changes in membership.

On November 19, 2020, the Joint Venture filed its original notification pursuant to Section 6(a) of the Act. The Department of Justice published a notice in the Federal Register pursuant to Section 6(b) of the Act on December 1, 2020 (85 FR 77241).

The last notification was filed with the Department on February 14, 2023. A notice was published in the Federal Register pursuant to Section 6(b) of the Act on March 27, 2023 (88 FR 18184).

Suzanne Morris,
Deputy Director Civil Enforcement Operations, Antitrust Division.

[FR Doc. 2023-12562 Filed 6-12-23; 8:45 am]

BILLING CODE 4410-11-P